DEPARTMENT OF JUSTICE

Notice of Lodging of Consent Decree Between the United States of America v. Koch Industries, Inc., Koch Pipeline Company, L.P., and Flint Hill Resources, L.P. Under the Comprehensive Environmental Response, Compensation, and Liability Act

Under 28 CFR 50.7, notice is hereby given that on April 29, 2004, a proposed Consent Decree (“Consent Decree”) in the case of United States of America v. Koch Industries, Inc., Koch Pipeline Company, L.P., and Flint Hill Resources, L.P., Civil Action No. 6:04-cv-01134-MLB-KMH, was lodged with the United States District Court for the District of Kansas.

The Consent Decree resolves the United States' claims against Koch Industries, Inc., Koch Pipeline Company, L.P., and Flint Hill Resources, L.P., under section 107(a) of the Comprehensive Environmental Response, Compensation and Liability Act (“CERCLA”) 42 U.S.C. 9607(a), for recovery of response costs incurred in connection with the 57th and North Broadway Superfund Site (“Site”), near Wichita, Kansas. The Consent Decree requires Koch Industries to pay $250,000 plus 5% of EPA's response costs that exceed $5,097,435. In exchange, the Consent Decree grants Koch Industries, Inc., Koch Pipeline Company, L.P., and Flint Hill Resources, L.P. contribution protection and covenants not to sue under CERCLA Sections 106 and 107, 42 U.S.C. 9606 & 9607.

The Department of Justice will receive comments relating to the Consent Decree for a period of thirty days from the date of this publication. Comments should be addressed to the Assistant Attorney General, Environment and Natural Resources Division, PO Box 7611, U.S. Department of Justice, Washington, DC 20044-7611, and should refer to United States v. Koch Industries, Inc., Koch Pipeline Company, L.P. and Flint Hill Resources, L.P., D.J. Reference No. 90-11-3-1737.

The Consent Decree may be examined during the public comment period on the following Department of Justice Web site: http://www.usdoj.gov/enrd/open.html. A copy of the Consent Decree may also be obtained by mail from the consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $725 (25 cents per page reproduction cost) payable to the United States Treasury for payment.

Robert Maher,
Assistant Section Chief, Environmental Enforcement Section, Environment and Natural Resources Division.

[FR Doc. 04-10843 Filed 5-12-04; 8:45 am]

BILLING CODE 4410-15-M